DEPARTMENT OF THE INTERIOR

National Park Service

National Register of Historic Places; Notification of Pending Nominations

Nominations for the following properties being considered for listing in the National Register were received by the National Park Service before October 2, 2004. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by November 15, 2004.

Carol D. Shull,
Keeper of the National Register of Historic Places.

GEORGIA

Fulton County

United States Post Office, Federal Annex, 77 Forsyth St., Atlanta, 04001217.

MARYLAND

Queen Anne's County

Centreville Historic District, Roughly bounded by Corsica R, Chesterfield Ave, Liberty St, Banio Ln, Railroad Ave, town limits and Mill Stream, Centreville, 04001218.

MASSACHUSETTS

Franklin County

Northfield Center Cemetery, W terminus of Parker Ave., Northfield, 04001220.

Middlesex County

First Burial Ground, Park St. near Centre St., Woburn, 04001222.

West Parish Burying Ground, River and Cherry Sts., Newton, 04001221.

Suffolk County

Forest Hills Cemetery, 95 Forest Hills Ave., Boston, 04001219.

MISSOURI

Greene County

Berry Cemetery, 1431 W. Farm Rd. 74, Ash Grove, 04001224.

Jackson County

Kelley—Reppert Motor Company Building, 422 Admiral Blvd., Kansas City, 04001223.

PENNSYLVANIA

Berks County

Queen Anne Historic District, Roughly bounded by Robeson St., North Third St., RR Tracks and Clinton St. Reading, 04001227.

Dauphin County

Harrisburg Polyclinic Hospital, 2601 N. Third St., Harrisburg, 04001225.

Philadelphia County

Marine Corps Depot of Supplies, Schuykill Warehouse, 700-734 Schuykill Ave., Philadelphia, 04001228.

Upper Roxborough Historic District (Boundary Increase), Upper: roughly bounded by Cathedral, Harner, Lare, Summitt, Eva; Lower: roughly bounded by Eva, Dearnley and Shawmont, Philadelphia, 04001226.

RHODE ISLAND

Newport County

St. George's School—Church of St. George, Little Chapel, and Memorial Schoolhouse, 372 Purgatory Rd., Middletown, 04001235.

TENNESSEE

Houston County

Erin Limekilns, (Lime Industry of Houston County, Tennessee MPS) 708 McMillan St., Erin, 04001230.

Quarry Limekiln, (Lime Industry of Houston County, Tennessee MPS) TN 49, approx 0.25 mi. E of Denmark Rd., Erin, 04001229.

Knox County

Morton, Benjamin, 4084 Kingston Pike, Knoxville, 04001231.

Morton, Benjamin, House, (Knoxville and Knox County MPS) 4084 Kingston Pike, Knoxville, 04001233.

TEXAS

El Paso County

Montana Avenue Historic District, 1000 through 1500 Blks of Montana Ave., El Paso, 04001232.

WYOMING

Sheridan County

Sheridan Railroad Historic District, 201-841 Broadway, 508-955 N. Gould, Sheridan, 04001234.

[FR Doc. 04-24157 Filed 10-28-04; 8:45 am]

BILLING CODE 4312-51-P